DEPARTMENT OF COMMERCE

National Institute of Standards and Technology

Announcing a Meeting of the Information Security and Privacy Advisory Board

AGENCY: National Institute of Standards and Technology.

ACTION: Notice of meeting.

SUMMARY: Pursuant to the Federal Advisory Committee Act, 5 U.S.C. App., notice is hereby given that the Information Security and Privacy Advisory Board (ISPAB) will meet Tuesday, March 16, 2004, from 8:30 a.m. until 5 p.m., Wednesday, March 17, 2004, from 8:30 a.m. until 5 p.m. and Thursday, March 18, 2004, from 8:30 a.m. until 1 p.m. All sessions will be open to the public. The Advisory Board was established by the Computer Security Act of 1987 (Pub. L. 100-235) and amended by the Federal Information Security Management Act of 2002 (Pub. L. 107-347) to advise the Secretary of Commerce and the Director of NIST on security and privacy issues pertaining to Federal computer systems. Details regarding the Board's activities are available at http://csrc.nist.gov/ispab/.

DATES: The meeting will be held on March 16, 2004, from 8:30 a.m. until 5 p.m., March 17, 2004, from 8:30 a.m. until 5 p.m. and March 18, 2004, from 8:30 a.m. until 1 p.m.

ADDRESSES: The meeting will take place at the Hyatt Regency Hotel Bethesda, 7400 Wisconsin Avenue, Bethesda, Maryland.

Agenda

• Welcome and overview;

• Customer Service Management (CRM) activities session;

• Review of budget history of NIST Information Technology Laboratory's Computer Security Division;

• Discussion of Federal IT security professional credentials;

• Update and re-evaluation of Board's Work Plan agenda;

• Agenda development for June 2004 ISPAB meeting;

• Wrap-up.

Note that agenda items may change without notice because of possible unexpected schedule conflicts of presenters.

Public Participation: The Board agenda will include a period of time, not to exceed 30 minutes, for oral comments and questions from the public. Each speaker will be limited to five minutes. Members of the public who are interested in speaking are asked to contact the Board Secretariat at the telephone number indicated below. In addition, written statements are invited and may be submitted to the Board at any time. Written statements should be directed to the ISPAB Secretariat, Information Technology Laboratory, 100 Bureau Drive, Stop 8930, National Institute of Standards and Technology, Gaithersburg, MD 20899-8930. It would be appreciated if 25 copies of written material were submitted for distribution to the Board and attendees no later than March 9, 2004. Approximately 15 seats will be available for the public and media.

FOR FURTHER INFORMATION CONTACT: Ms. Joan Hash, Board Secretariat, Information Technology Laboratory, National Institute of Standards and Technology, 100 Bureau Drive, Stop 8930, Gaithersburg, MD 20899-8930, telephone: (301) 975-3357.

Dated: March 1, 2004.
Hratch G. Semerjian,
Deputy Director.

[FR Doc. 04-5165 Filed 3-5-04; 8:45 am]

BILLING CODE 3510-CN-P